DEPARTMENT OF JUSTICE

Drug Enforcement Administration

Importer of Controlled Substances; Notice of Registration

By Notice dated January 16, 2013, and published in the Federal Register on January 25, 2013, 78 FR 5497, Nebraska State Penitentiary, 4201 South 14th Street, Lincoln, Nebraska 68502, made application to the Drug Enforcement Administration (DEA) to be registered as an importer of Pentobarbital (2270), a basic class of controlled substance listed in schedule II.

The facility intends to import the above listed controlled substance for legitimate use. Supplies of this particular controlled substance are inadequate and are not available in the form needed within the current domestic supply of the United States.

No comments or objections have been received. DEA has considered the factors in 21 U.S.C. 823(a) and 952(a) and determined that the registration of Nebraska State Penitentiary to import the basic class of controlled substance is consistent with the public interest and with United States obligations under international treaties, conventions, or protocols in effect on May 1, 1971.

DEA has investigated Nebraska State Penitentiary to ensure that its registration is consistent with the public interest. The investigation has included inspection and testing of the Nebraska State Penitentiary facility's physical security systems, verification of its compliance with state and local laws, and a review of its background and history.

Therefore, pursuant to 21 U.S.C. 952(a) and 958(a), and in accordance with 21 CFR 1301.34, the above named facility is granted registration as an importer of the basic class of controlled substance listed.

Dated: April 11, 2013.
Joseph T. Rannazzisi,
Deputy Assistant Administrator, Office of Diversion Control, Drug Enforcement Administration.

[FR Doc. 2013-09299 Filed 4-18-13; 8:45 am]

BILLING CODE 4410-09-P